DEPARTMENT OF COMMERCE

International Trade Administration

[C-122-839]

Notice of Extension of Time Limit for Final Results of Countervailing Duty New Shipper Review: Certain Softwood Lumber Products from Canada

AGENCY: Import Administration, International Trade Administration, Department of Commerce.

EFFECTIVE DATE: June 29, 2005.

FOR FURTHER INFORMATION CONTACT: Kristen Johnson, AD/CVD Operations, Office 3, Import Administration, International Trade Administration, U.S. Department of Commerce, 14th Street and Constitution Avenue, NW, Washington, DC 20230; telephone (202) 482-4793.

SUPPLEMENTARY INFORMATION:

Statutory Time Limits

Section 751(a)(2)(B)(iv) of the Tariff Act of 1930, as amended (the Act), requires the Department of Commerce (the Department) to issue the final results of a new shipper review within 90 days after the date the preliminary results are issued. However, if the Department determines that the case is extraordinarily complicated, section 751(a)(2)(B)(iv) of the Act allows the Department to extend the 90-day deadline for the final results to 150 days.

Background

On July 8, 2004, the Department initiated a new shipper review relating to the countervailing duty order on certain softwood lumber products from Canada, covering the period January 1, 2003, through December 31, 2003. See Certain Softwood Lumber Products From Canada: Notice of Initiation of Antidumping Duty New Shipper Review for the Period May 1, 2003, through April 30, 2004, and Notice of Initiation of Countervailing Duty New Shipper Review for the Period January 1, 2003, through December 31, 2003, 69 FR 41229 (July 8, 2004).¹ The respondent in this review is Seed Timber Co. Ltd. (Seed Timber). The Department completed the preliminary results of this new shipper review on April 26, 2005. See Certain Softwood Lumber Products From Canada: Preliminary Results of Countervailing Duty New Shipper Review, 70 FR 22848 (May 3, 2005). The current deadline for the final results is July 25, 2005.

¹ Seed Timber's antidumping new shipper review was subsequently rescinded as a result of the company's withdrawal of its request for a review (69 FR 54766, September 10, 2004).

Extension of Time Limits for Final Results

Pursuant to section 751(a)(2)(B)(iv) of the Act, the Department may extend the deadline for completion of the final results of a new shipper review if the case is extraordinarily complicated. The Department determines that this review is extraordinarily complicated and cannot be completed within the statutory time limit of 90 days because of the complexity of issues that interested parties raised in case briefs concerning the Department's applied benefit methodology.² Therefore, in accordance with section 751(a)(2)(B)(iv) of the Act and section 351.214(i)(2) of the Department's regulations, the Department is extending the time limit for completion of the final results to 150 days. The final results are now due no later than September 23, 2005.

² Case briefs were submitted to the Department on June 2, 2005.

This notice is published pursuant to sections 751(a)(2)(B) and 777(i)(1) of the Act.

Dated: June 17, 2005.
Barbara E. Tillman,
Acting Deputy Assistant Secretary for Import Administration.

[FR Doc. E5-3395 Filed 6-28-05; 8:45 am]

BILLING CODE 3510-DS-S